FEDERAL COMMUNICATIONS COMMISSION

[OMB 3060-0009; FRS 19751]

Information Collection Being Reviewed by the Federal Communications Commission Under Delegated Authority

AGENCY: Federal Communications Commission.

ACTION: Notice and request for comments.

SUMMARY: As part of its continuing effort to reduce paperwork burdens, and as required by the Paperwork Reduction Act of 1995 (PRA), the Federal Communications Commission (FCC or Commission) invites the general public and other Federal agencies to take this opportunity to comment on the following information collections. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees. The FCC may not conduct or sponsor a collection of information unless it displays a currently valid Office of Management and Budget (OMB) control number. No person shall be subject to any penalty for failing to comply with a collection of information subject to the PRA that does not display a valid OMB control number.

DATES: Written PRA comments should be submitted on or before June 11, 2021. If you anticipate that you will be submitting comments but find it difficult to do so within the period of time allowed by this notice, you should advise the contact listed below as soon as possible.

ADDRESSES: Direct all PRA comments to Cathy Williams, FCC, via email to PRA@fcc.gov and to Cathy.Williams@fcc.gov.

FOR FURTHER INFORMATION CONTACT: For additional information about the information collection, contact Cathy Williams at (202) 418-2918.

SUPPLEMENTARY INFORMATION:

OMB Control Number: 3060-0009.

Title: FCC Form 2100, Schedule 316—Application for Consent to Assign Broadcast Station Construction Permit or License or Transfer Control of Entity Holding Broadcast Station Construction Permit or License.

Form Number: FCC Form 2100, Schedule 316.

Type of Review: Extension of a currently approved collection.

Respondents: Business or other for-profit entities; Not-for-profit institutions; State, local or tribal government.

Number of Respondents and Responses: 750 respondents, 750 responses.

Estimated Time per Response: 1.5-4.5 hours.

Frequency of Response: On occasion reporting requirement.

Obligation To Respond: Required to obtain benefits. Statutory authority for this collection of information is contained in Sections 154(i) and 310(d) of the Communications Act of 1934, as amended.

Total Annual Burden: 1,231 hours.

Total Annual Cost: $711,150.

Privacy Impact Assessment: No impact(s).

Nature and Extent of Confidentiality: Confidentiality is not required with this collection of information.

Needs and Uses: This submission is being submitted as an extension of an existing information collection pursuant to 44 U.S.C. 3507. This submission contains revised FCC Form 2100, Schedule 316 (Schedule 316) and its accompanying instructions.

Schedule 316 is used to apply for Commission consent to a pro forma assignment of a broadcast station license or construction permit, or a pro forma transfer of control of an entity holding a broadcast station license or construction permit. Specifically, filing of the Schedule 316 is required when applying for consent to assignment of a broadcast station construction permit or license, or for consent to transfer control of an entity holding a broadcast station construction permit or license where there is little change in the relative interest or disposition of its interests; where transfer of an interest is not a controlling one; where there is no substantial change in the beneficial ownership of the corporation; where the assignment is less than a controlling interest in a partnership; where there is an appointment of an entity qualified to succeed to the interest of a deceased or legally incapacitated individual permittee, licensee or controlling stockholder; and, in the case of LPFM stations, where there is a voluntary transfer of a controlling interest in the licensee entity. In addition, the applicant must notify the Commission when an approved assignment or transfer of control of a broadcast station construction permit or license has been consummated.

In October 2020, the Commission submitted a non-substantive change request to the Office of Management and Budget (OMB) for approval of minor non-substantive changes made to then-FCC Form 316.

The Media Bureau is transitioning to a new on-line electronic licensing database system called the “Licensing Management System” (LMS) in which all Media Bureau broadcast applications and reporting forms will eventually be filed. This database transition requires a corresponding design conversion of all existing forms previously filed in the legacy CDBS database. The Media Bureau has developed electronic, LMS-compatible versions of various broadcast station application and reporting forms, such as this Schedule 316, as part of the database transition. To accommodate the database transition from CDBS to LMS in the 2020 phase of the LMS roll-out, the new LMS-filed Schedule 316 replaced the old CDBS-filed Form 316 for applications for consent to a pro forma assignment or pro forma transfer of control of a broadcast license or construction permit for TV, AM, and FM full-service stations, TV and FM translator stations, Low Power FM stations, Class A Television stations, and Low Power Television stations.

The substance, respondents, burden hours and costs of this Information Collection were not impacted by the minor non-substantive changes. The certification-based questions and explanatory exhibit format on the application remained the same.

OMB approved the non-substantive change request on October 27, 2020.

Federal Communications Commission.
Marlene Dortch,
Secretary, Office of the Secretary.

[FR Doc. 2021-07359 Filed 4-9-21; 8:45 am]

BILLING CODE 6712-01-P